DEPARTMENT OF THE INTERIOR

Bureau of Land Management

[ID-933-3130-ET; GPO-04-0004; IDI-12551]

Expiration of Public Land Order and Opening of Lands; Idaho

AGENCY: Bureau of Land Management, Interior.

ACTION: Notice.

SUMMARY: The Bureau of Land Management announces the expiration of one public land order affecting 19.09 acres of public land. This action will open the land to surface entry and mining.

DATES: See SUPPLEMENTARY INFORMATION section for expiration and opening dates.

FOR FURTHER INFORMATION CONTACT: Jackie Simmons, Bureau of Land Management, Idaho State Office, 1387 South Vinnell Way, Boise, Idaho 83709, 208-373-3867.

SUPPLEMENTARY INFORMATION: 1. The following public land order (PLO), which withdrew public land for the area listed, has expired:

PLO | FR citation | Area name | Expired | Acres
5673 | 44 FR 44503 (1979) | Burley Administrative Site | 7/22/1999 | 19.09

2. A copy of the expired public land order, describing the land involved, is available at the BLM Idaho State Office (address above).

3. In accordance with 43 CFR 2091.6, at 8:30 a.m., on March 28, 2005, the land withdrawn by the public land order listed in Paragraph 1 above will be opened to the operation of the public land laws generally, subject to valid existing rights, the provision of existing withdrawals, other segregations of record, and the requirements of applicable law. All valid applications received at or prior to 8:30 a.m. on March 28, 2005, shall be considered as simultaneously filed at that time. Those received thereafter shall be considered in the order of filing.

4. In accordance with 43 CFR 2091.6, at 8:30 a.m., on March 28, 2005, the lands withdrawn by the public land orders listed in paragraph 1 above will be opened to location and entry under the United States mining laws, subject to valid existing rights, the provisions of existing withdrawals, other segregations of record, and the requirements of applicable law. Appropriation of any of the lands described in this order under the general mining laws prior to the date and time of restoration is unauthorized. Any such attempted appropriation, including attempted adverse possession under 30 U.S.C. 38 (2000), shall vest no rights against the United States. State law governs acts required to establish a location and to initiate a right of possession where not in conflict with Federal law. The Bureau of Land Management will not intervene in disputes between rival locators over possessory rights since Congress has provided for such determinations in local courts.

Jimmie Buxton,
Branch Chief Land and Minerals.

[FR Doc. 05-3517 Filed 2-23-05; 8:45 am]

BILLING CODE 4310-GG-P